DEPARTMENT OF ENERGY

Federal Energy Regulatory Commission

Sacramento Municipal Utility District (Project No. 2101-084—California) and Pacific Gas and Electric Company (Project No. 2155-024—California); Notice of Site Visit

September 12, 2005.

On October 4 and October 5, 2005, the Federal Energy Regulatory Commission (Commission) Staff will visit the Upper American River Project (UARP) and the Chili Bar Project, located on the South Fork American River, Rubicon River and tributaries in El Dorado County, California. Sacramento Municipal Utility District (SMUD), applicant for the UARP, and Pacific Gas and Electric Company, applicant for the Chili Bar Project, will accompany the Commission Staff on the site visit.

The site visit is open to the public and resource agencies. SMUD will provide vans to help in traveling to the various locations (please see the tentative schedule below).

Due to the logistics involved in traveling to some locations, there is the need to know the number of attendees in advance. All individuals planning to attend need to call or e-mail James Fargo, FERC Team Leader, at (202) 502-6095 or james.fargo@ferc.gov no later than September 27, 2005.

Tentative schedule for site visit (times given are in Pacific Daylight Savings):

Dates: October 4 and October 5.

Time: 7:30 a.m. to about 6 p.m. (PST) both days.

Arrangements: Vans will be provided for both days. Those interested in attending should contact Jim Fargo at the phone number or e-mail listed above. Comfortable walking shoes and attire are strongly recommended.

October 4, 2005

Meeting Place: Placerville Transit Center: Mosquito Road at Clay Street, Placerville, CA 95667.

Departure Time: 7:30 a.m.

General Itinerary: Visit Chili Bar Dam, White Rock Powerhouse, Slab Creek Dam (arriving at about 10:30 a.m.), Iowa Hill, Camino Dam, Union Valley Dam, and associated reservoirs and streams.

October 5, 2005

Meeting Place: SMUD's Fresh Pond Office: 7540 Highway 50, Pollock Pines, CA 95726, phone: (530) 644-2013.

Departure Time: 7:30 a.m.

General Itinerary: Visit Ice House, Union Valley, Gerle Creek and Loon Lake reservoirs and associated streams and recreation facilities.

Magalie R. Salas,
Secretary.

[FR Doc. E5-5097 Filed 9-16-05; 8:45 am]

BILLING CODE 6717-01-P